DEPARTMENT OF ENERGY

Federal Energy Regulatory Commission

Combined Notice of Filings #2

Take notice that the Commission received the following electric corporate filings:

Docket Numbers: EC11-122-000.

Applicants: TPW Petersburg, LLC.

Description: Application for Authorization for Disposition of Jurisdictional Facilities and Request for Expedited Action of TPW Petersburg, LLC.

Filed Date: 09/30/2011.

Accession Numbers: 20110930-5139.

Comment Date: 5 p.m. Eastern Time on Friday, October 21, 2011.

Take notice that the Commission received the following electric rate filings:

Docket Numbers: ER10-2869-002.

Applicants: Midwest Independent Transmission System Operator, Inc.

Description: Midwest Independent Transmission System Operator, Inc. submits tariff filing per 35: 9-30-11 Module B, Cross Border Out Compliance II to be effective 11/22/2010.

Filed Date: 09/30/2011.

Accession Numbers: 20110930-5088.

Comment Date: 5 p.m. Eastern Time on Friday, October 21, 2011.

Docket Numbers: ER11-2657-001.

Applicants: Milford Wind Corridor Phase II, LLC.

Description: Notification of Non-Material Change in Status by Milford Wind Corridor Phase II, LLC.

Filed Date: 09/30/2011.

Accession Numbers: 20110930-5193.

Comment Date: 5 p.m. Eastern Time on Friday, October 21, 2011.

Docket Numbers: ER11-4709-000.

Applicants: Texzon Utilities, Ltd.

Description: Texzon Utilities, Ltd. submits tariff filing per 35.1: Texzon Utilities Baseline Tariff Filing to be effective 9/29/2011.

Filed Date: 09/30/2011.

Accession Numbers: 20110930-5000.

Comment Date: 5 p.m. Eastern Time on Friday, October 21, 2011.

Docket Numbers: ER11-4710-000.

Applicants: Avista Corporation.

Description: Avista Corporation submits tariff filing per 35.12: Avista Corp NITSA filing to be effective 10/1/2011.

Filed Date: 09/30/2011.

Accession Numbers: 20110930-5004.

Comment Date: 5 p.m. Eastern Time on Friday, October 21, 2011.

Docket Numbers: ER11-4711-000.

Applicants: R&R Energy, Inc.

Description: R&R Energy, Inc. submits tariff filing per 35.1: R & R Baseline Tariff to be effective 9/29/2011.

Filed Date: 09/30/2011.

Accession Numbers: 20110930-5005.

Comment Date: 5 p.m. Eastern Time on Friday, October 21, 2011.

Docket Numbers: ER11-4712-000.

Applicants: GGBB Energy, Inc.

Description: GGBB Energy, Inc. submits tariff filing per 35.1: GGBB Baseline Tariff to be effective 9/29/2011.

Filed Date: 09/30/2011.

Accession Numbers: 20110930-5007.

Comment Date: 5 p.m. Eastern Time on Friday, October 21, 2011.

Docket Numbers: ER11-4713-000.

Applicants: NCSU Energy, Inc.

Description: NCSU Energy, Inc. submits tariff filing per 35.1: NCSU Energy Baseline Tariff to be effective 9/29/2011.

Filed Date: 09/30/2011.

Accession Numbers: 20110930-5008.

Comment Date: 5 p.m. Eastern Time on Friday, October 21, 2011.

Docket Numbers: ER11-4716-000.

Applicants: Energy Alternatives, Inc.

Description: Energy Alternatives, Inc. submits tariff filing per 35.1: FERC Baseline Electric Tariff to be effective 9/30/2011.

Filed Date: 09/30/2011.

Accession Numbers: 20110930-5080.

Comment Date: 5 p.m. Eastern Time on Friday, October 21, 2011.

Docket Numbers: ER11-4717-000.

Applicants: International Paper Company.

Description: International Paper Company submits tariff filing per 35.1: International Paper Company MBR Filing 2011-09-30 to be effective 9/30/2011.

Filed Date: 09/30/2011.

Accession Numbers: 20110930-5083.

Comment Date: 5 p.m. Eastern Time on Friday, October 21, 2011.

Docket Numbers: ER11-4718-000.

Applicants: Gateway Energy Marketing.

Description: Gateway Energy Marketing submits tariff filing per 35.1: Gateway Market-Based Rate Baseline Filing to be effective 9/30/2011.

Filed Date: 09/30/2011.

Accession Numbers: 20110930-5108.

Comment Date: 5 p.m. Eastern Time on Friday, October 21, 2011.

Docket Numbers: ER11-4719-000.

Applicants: Continental Electric Cooperative Service

Description: Continental Electric Cooperative Services, Inc. submits tariff filing per 35.1: CCS Market Based Rate Filing to be effective 9/30/2011.

Filed Date: 09/30/2011.

Accession Numbers: 20110930-5124.

Comment Date: 5 p.m. Eastern Time on Friday, October 21, 2011.

Docket Numbers: ER11-4720-000.

Applicants: PacifiCorp.

Description: PacifiCorp submits tariff filing per 35.13(a)(2)(iii: BPA Agreement for Work at Hat Rock Switching Station to be effective 11/30/2011.

Filed Date: 09/30/2011.

Accession Numbers: 20110930-5137.

Comment Date: 5 p.m. Eastern Time on Friday, October 21, 2011.

Docket Numbers: ER11-4721-000.

Applicants: New Hope Power Partnership.

Description: New Hope Power Partnership submits tariff filing per 35.1: New Hope FERC Electric Tariff Baseline Filing to be effective 9/30/2011.

Filed Date: 09/30/2011.

Accession Numbers: 20110930-5141.

Comment Date: 5 p.m. Eastern Time on Friday, October 21, 2011.

Docket Numbers: ER11-4722-000.

Applicants: Allied Energy Resources Corporation.

Description: Allied Energy Resources Corporation submits tariff filing per 35.1: Base line filing to be effective 10/3/2011.

Filed Date: 09/30/2011.

Accession Numbers: 20110930-5142.

Comment Date: 5 p.m. Eastern Time on Friday, October 21, 2011.

Docket Numbers: ER11-4723-000.

Applicants: Southern California Edison Company.

Description: Southern California Edison Company submits tariff filing per 35.13(a)(2)(iii: LGIA WDAT SERV AG SCE-Wellhead Power Delano LLC, Wellhead Power Delano Proj to be effective 10/3/2011.

Filed Date: 09/30/2011.

Accession Numbers: 20110930-5144.

Comment Date: 5 p.m. Eastern Time on Friday, October 21, 2011.

Docket Numbers: ER11-4724-000.

Applicants: Northern States Power Company, a Minnesota.

Description: Northern States Power Company, a Minnesota corporation submits tariff filing per 35.13(a)(2)(iii: 2011-09-30_CAPX_Fargo_Phase-2_CMA_306_0.1.0 to be effective 8/12/2011.

Filed Date: 09/30/2011.

Accession Numbers: 20110930-5145.

Comment Date: 5 p.m. Eastern Time on Friday, October 21, 2011.

Docket Numbers: ER11-4725-000.

Applicants: APN Starfirst, LP.

Description: APN Starfirst, LP submits tariff filing per 35.1: APN Starfirst, LP, Rate Schedule FERC No. 1 to be effective 9/30/2011.

Filed Date: 09/30/2011.

Accession Numbers: 20110930-5150.

Comment Date: 5 p.m. Eastern Time on Friday, October 21, 2011.

Docket Numbers: ER11-4726-000.

Applicants: PJM Interconnection, L.L.C.

Description: PJM Interconnection, L.L.C. submits tariff filing per 35.13(a)(2)(iii: Queue No. W3-078; Original Service Agreement No. 3063 to be effective 9/1/2011.

Filed Date: 09/30/2011.

Accession Numbers: 20110930-5156.

Comment Date: 5 p.m. Eastern Time on Friday, October 21, 2011.

Take notice that the Commission received the following electric securities filings:

Docket Numbers: ES11-43-000.

Applicants: El Paso Electric Company.

Description: Supplement to Application of El Paso Electric Company.

Filed Date: 09/30/2011.

Accession Numbers: 20110930-5095.

Comment Date: 5 p.m. Eastern Time on Tuesday, October 11, 2011.

Take notice that the Commission received the following qualifying facility filings:

Docket Numbers: QF11-515-000.

Applicants: Air Products and Chemicals, Inc.

Description: Form 556 of Air Products LLC.

Filed Date: 09/29/2011.

Accession Numbers: 20110929-5017.

Comment Date: 5 p.m. Eastern Time on Thursday, October 20, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 30, 2011.
Nathaniel J. Davis, Sr.,
Deputy Secretary.

[FR Doc. 2011-26079 Filed 10-7-11; 8:45 am]

BILLING CODE 6717-01-P